DEPARTMENT OF TRANSPORTATION

Federal Aviation Administration

14 CFR Part 39

[Docket No. 2002-NM-137-AD; Amendment 39-13389; AD 2003-25-06]

RIN 2120-AA64

Airworthiness Directives; Airbus Model A300 B4-622R and A300 F4-622R Airplanes, and Model A310-324 and -325 Series Airplanes

AGENCY: Federal Aviation Administration, DOT.

ACTION: Final rule.

SUMMARY: This amendment adopts a new airworthiness directive (AD), applicable to certain Airbus Model A300 B4-622R and A300 F4-622R airplanes, and Model A310-324 and -325 series airplanes, that are equipped with Pratt & Whitney PW4000 series engines. This AD requires replacement of the existing flexible hose assembly that connects the oil pressure transmitter to the main oil circuit, with a new improved tube assembly. This action is necessary to prevent failure of the oil pressure indicator and low-oil-pressure warning in the event of an engine fire, which could result in an unannounced shutdown of the engine. This action is intended to address the identified unsafe condition.

DATES: Effective January 22, 2004.

The incorporation by reference of certain publications listed in the regulations is approved by the Director of the Federal Register as of January 22, 2004.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) to include an airworthiness directive (AD) that is applicable to certain Airbus Model A300 B4-622R and A300 F4-622R airplanes, and Model A310-324 and -325 series airplanes, that are equipped with Pratt & Whitney PW4000 series engines, was published in the Federal Register on September 19, 2003 (68 FR 54872). That action proposed to require replacement of the existing flexible hose assembly that connects the oil pressure transmitter to the main oil circuit, with a new improved tube assembly.

Comments

Interested persons have been afforded an opportunity to participate in the making of this amendment. Due consideration has been given to the single comment received. The commenter has no objection to the proposed AD.

Conclusion

After careful review of the available data, including the comment noted above, the FAA has determined that air safety and the public interest require the adoption of the rule as proposed.

Cost Impact

The FAA estimates that 139 airplanes of U.S. registry will be affected by this AD, that it will take approximately 10 work hours per airplane to accomplish the required actions, and that the average labor rate is $65 per work hour. Required parts will be provided by the manufacturer at no charge. Based on these figures, the cost impact of this AD on U.S. operators is estimated to be $90,350, or $650 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-25-06 Airbus: Amendment 39-13389. Docket 2002-NM-137-AD.

Applicability: Model A300 B4-622R and A300 F4-622R airplanes, and Model A310-324 and -325 series airplanes, equipped with Pratt & Whitney PW4000 series engines; certificated in any category; except those on which Airbus Modification 12468 has been accomplished in production.

Compliance: Required as indicated, unless accomplished previously.

To prevent failure of the oil pressure indicator and low-oil-pressure warning in the event of an engine fire, which could result in an unannounced shutdown of the engine, accomplish the following:

Replacement

(a) Within 8 months after the effective date of this AD, replace the existing flexible hose assembly, part number (P/N) 113286, that connects the oil pressure transmitter to the main oil circuit, with a new improved tube assembly, P/N 221-5318-501. Before further flight after the replacement, perform a test of the engine oil system. Do these actions according to the Accomplishment Instructions of the service bulletin specified in paragraph (a)(1) or (a)(2) of this AD, as applicable.

(1) For Model A300 B4-622R and A300 F4-622R airplanes: Airbus Service Bulletin A300-79-6003, dated January 31, 2002.

(2) For Model A310-324 and -325 series airplanes: Airbus Service Bulletin A310-79-2004, dated January 31, 2002.

Note 1: Airbus Service Bulletins A300-79-6003 and A310-79-2004 refer to Pratt & Whitney Alert Service Bulletin PW4NAC A79-21, dated October 15, 2001, as an additional source of service information for the replacement required by this AD.

Alternative Methods of Compliance

(b) In accordance with 14 CFR 39.19, the Manager, International Branch, ANM-116, FAA, Transport Airplane Directorate, is authorized to approve alternative methods of compliance for this AD.

Incorporation by Reference

(c) The actions shall be done in accordance with Airbus Service Bulletin A300-79-6003, dated January 31, 2002; or Airbus Service Bulletin A310-79-2004, dated January 31, 2002; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 2: The subject of this AD is addressed in French airworthiness directive 2002-173(B), dated April 3, 2002.

Effective Date

(d) This amendment becomes effective on January 22, 2004.

Issued in Renton, Washington, on December 5, 2003.
Kalene C. Yanamura,
Acting Manager, Transport Airplane Directorate, Aircraft Certification Service.

[FR Doc. 03-31059 Filed 12-17-03; 8:45 am]

BILLING CODE 4910-13-P